PEACE CORPS

Information Collection Requests Under OMB Review; Proposed Collection of Information

AGENCY: Peace Corps.

ACTION: Submission for Office of Management and Budget (OMB) review; comment request.

SUMMARY: The Peace Corps will submit the following information collection request to the Office of Management and Budget (OMB) for approval. In compliance with the Paperwork Reduction Act of 1995 (44 U.S.C. chapter 35), the Peace Corps invites the general public to comment on this request for approval of a new proposed information collection, Peace Corps Response Application (OMB Control Number 0420—pending). This process is conducted in accordance with 5 CFR 1320.10.

DATES: Comments regarding this collection must be received on or before August 22, 2011.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOIA Officer, Peace Corps, 1111 20th Street, NW., Washington, DC 20526, (202) 692-1236, or e-mail at pcf@peacecorps.gov. Copies of available documents submitted to OMB may be obtained from Denora Miller.

SUPPLEMENTARY INFORMATION: This information is used by Peace Corps Response staff to perform initial screening for potential candidates for specific Peace Corps Response assignments. The Peace Corps Response Application is completed by applicants for Peace Corps Response assignments to provide basic information concerning technical and language skills, and availability for Peace Corps Response assignments.

Title: Peace Corps Response Application Form.

OMB Control Number: [0420—pending].

Type of Review: New.

Respondents: Returned Peace Corps Volunteer and general public.

Burden to the Public:

(a) Estimated number of respondents: 2,500.

(b) Frequency of response: One time.

(c) Estimated average burden per response: 60 minutes.

(d) Estimated total reporting burden: 2,500 hours.

(e) Estimated annual cost to respondents: $0.00.

This notice issued in Washington, DC, on July 18, 2011.
Earl W. Yates,
Associate Director, Management.

[FR Doc. 2011-18532 Filed 7-21-11; 8:45 am]

BILLING CODE 6051-01-P